DEPARTMENT OF ENERGY

Federal Energy Regulatory Commission

[Project No. 459-238]

Ameren/UE; Notice of Availability of Environmental Assessment

November 4, 2008.

In accordance with the National Environmental Policy Act of 1969 and the Federal Energy Regulatory Commission's regulations, 18 CFR Part 380 (Order No. 486, 52 FR 47879) the Office of Energy Projects has prepared an environmental assessment (EA) for an application filed by Ameren/UE (licensee) on September 10, 2008, requesting Commission approval to permit Utley Development Company, LLC, to construct one new multi-slip boat dock at the Summer Hill development. The project would be located near mile marker 31.2+5.4 of in Barnes Hollow Cove of the Lake of the Ozarks in Camden County, Missouri. The dock would have a total of 14 boat slips, with 12 slips 32 feet long and 12 feet wide and 2 slips 32 feet long and 10 feet wide and would include a central walkway 4 feet wide. No fuel-dispensing and sewage-pumping facilities or dredging are proposed.

The EA evaluates the environmental impacts that would result from approving the licensee's proposal. The EA finds that approval of the application would not constitute a major federal action significantly affecting the quality of the human environment.

The EA is attached to a Commission order titled “Order Modifying and Approving Non-Project Use of Project Lands and Waters” which was issued October 31, 2008, and is available for review and reproduction at the Commission's Public Reference Room, located at 888 First Street, NE., Room 2A, Washington, DC 20426. The EA may also be viewed on the Commission's Web site at http://www.ferc.gov using the “eLibrary” link. Enter the docket number (P-459) excluding the last three digits in the docket number field to access the document. For assistance, contact FERC Online Support at FERCOnlineSupport@ferc.gov or toll-free at 1-866-208-3372, or for TTY, (202) 502-8659.

Kimberly D. Bose,
Secretary.

[FR Doc. E8-26782 Filed 11-10-08; 8:45 am]

BILLING CODE 6717-01-P